ENVIRONMENTAL PROTECTION AGENCY

[EPA-HQ-OPPT-2003-0004; FRL-12043-01-OCSPP]

Access to Confidential Business Information by Eastern Research Group

AGENCY: Environmental Protection Agency (EPA).

ACTION: Notice.

SUMMARY: EPA has authorized its contractor, Eastern Research Group (ERG) of Concord, MA/Chantilly, VA to access information which has been submitted to EPA under all sections of the Toxic Substances Control Act (TSCA). Some of the information may be claimed or determined to be Confidential Business Information (CBI).

DATES: Access to the confidential data will occur no sooner than July 3, 2024.

FOR FURTHER INFORMATION CONTACT:

For technical information contact: Colby Lintner or Adam Schwoerer, Project Management and Operations Division (7407M), Office of Pollution Prevention and Toxics, Environmental Protection Agency, 1200 Pennsylvania Ave. NW, Washington, DC 20460-0001; email address: lintner.colby@epa.gov or (202) 564-4767; schwoerer.adam@epa.gov or (202) 564-4767.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. This action may, however, be of interest to all who manufacture, process, or distribute industrial chemicals. Since other entities may also be interested, the Agency has not attempted to describe all the specific entities that may be affected by this action.

B. How can I get copies of this document and other related information?

The docket for this action, identified by docket identification (ID) number EPA-HQ-OPPT-2003-0004 is available at https://www.regulations.gov or at the Office of Pollution Prevention and Toxics Docket (OPPT Docket), Environmental Protection Agency Docket Center (EPA/DC), West William Jefferson Clinton Bldg., Rm. 3334, 1301 Constitution Ave. NW, Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at https://www.epa.gov/dockets.

II. What action is the Agency taking?

Under EPA contract number GS-00F-079CA/68HERH24P0148, contractor ERG of 561 Virginia Road, Building 4, Suite 300, MA 017422767/14555 Avion Parkway, Suite 200 Chantilly, VA will assist the Office of Pollution Prevention and Toxics (OPPT) in supporting in engineering assessments for the exposure evaluation and assessment of chemical substances and related regulatory actions.

In accordance with 40 CFR 2.306(j), EPA has determined that under EPA contract number GS-00F-079CA/68HERH24P0148, ERG will require access to CBI submitted to EPA under all section(s) of TSCA to perform successfully the duties specified under the contract. ERG personnel will be given access to information submitted to EPA under all section(s) of TSCA. Some of the information may be claimed or determined to be CBI.

EPA is issuing this notice to inform all submitters of information under all sections of TSCA that EPA may provide ERG access to these CBI materials on a need-to-know basis only. All access to TSCA CBI under this contract will take place at EPA Headquarters and ERG's sites located at 561 Virginia Road, Building 4, Suite 300, MA 017422767 and 14555 Avion Parkway, Suite 200, Chantilly, VA, in accordance with EPA's TSCA CBI Protection Manual.

Access to TSCA data, including CBI, will continue until October 29, 2024. If the contract is extended, this access will also continue for the duration of the extended contract without further notice.

ERG personnel will be required to sign nondisclosure agreements and will be briefed on appropriate security procedures before they are permitted access to TSCA CBI.

Authority: 15 U.S.C. 2601 et seq.

Dated: June 20, 2024.
Todd Holderman,
Acting Director, Project Management and Operations Division, Office of Pollution Prevention and Toxics.

[FR Doc. 2024-13976 Filed 6-25-24; 8:45 am]

BILLING CODE 6560-50-P